DEPARTMENT OF STATE

[Public Notice 5013]

30-Day Notice of Proposed Information Collection: Form DS-2019, Certificate of Eligibility for Exchange Visitor (J-1) Status, OMB Number 1405-0119

ACTION: Notice of request for public comment and submission to OMB of proposed collection of information.

SUMMARY: The Department of State has submitted the following information collection request to the Office of Management and Budget (OMB) for approval in accordance with the Paperwork Reduction Act of 1995.

• Title of Information Collection: Certificate of Eligibility for Exchange Visitor (J-1) Status.

• OMB Control Number: 1405-0119.

• Type of Request: Extension of a currently approved collection.

• Originating Office: Bureau of Educational and Cultural Affairs, DOS/ECA/EC.

• Form Number: DS-2019.

• Respondents: Department of State designated Exchange Visitor Program sponsors and exchange visitors.

• Estimated Number of Respondents: 300,000.

• Estimated Number of Responses: 300,000.

• Average Hours per Response: 45 minutes.

• Total Estimated Burden: 225,000.

• Frequency: On occasion.

• Obligation To Respond: Required to obtain or retain a benefit.

DATES: The Department will accept comments from the public for up to 30 days from March 10, 2005.

ADDRESSES: Comments and questions should be directed to Alex Hunt, the State Department Desk Officer in Office of Information and Regulatory Affairs at the Office of Management and Budget (OMB), who may be reached on (202) 395-7860. You may submit comments by any of the following methods:

• E-mail: ahunt@omb.eop.gov. You must include the DS form number (if applicable), information collection title, and OMB control number in the subject line of your message.

• Hand Delivery or Courier: OIRA State Department Desk Officer, Office of Management and Budget, 725 17th Street, NW., Washington, DC 20503.

• Fax: (202) 395-6974.

FOR FURTHER INFORMATION CONTACT: You may obtain copies of the proposed information collection and supporting documents from Vicki Rose, Office of Exchange Coordination and Designation, Bureau of Educational and Cultural Affairs, 301 Fourth Street, SW., Room 734, U.S. Department of State, Washington, DC 20547, who may be reached on 202-203-5096 or by e-mail at RoseVT@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: This Form collects information on nonimmigrants for the purpose of producing a document to enable a nonimmigrant to seek a visa to participate in the Exchange Visitor Program.

Methodology: The information is collected electronically and is maintained in the Student and Exchange Visitor Information System (SEVIS).

Dated: February 24, 2005.
Cathy T. Chikes,
Executive Director, Bureau of Educational and Cultural Affairs, Department of State.

[FR Doc. 05-4720 Filed 3-9-05; 8:45 am]

BILLING CODE 4710-05-P